DEPARTMENT OF STATE

[Public Notice 4701]

ITAC Meetings in Preparation for CITEL “Steering Group Meetings”

SUMMARY: A meeting of the International Telecommunication Advisory Committee to prepare for CITEL “Steering Group Meetings” has been scheduled. The International Telecommunication Advisory Committee (ITAC) will meet on May 13, 2004 from 9:30 a.m.-noon to prepare for the Organization of American States/CITEL “Steering Group Meetings.” The location and detailed agenda will be published on the following e-mail reflector: pcci-citel@eblist.state.gov. People desiring to attend the meeting who are not on this list may request the information from the Secretariat at minardje@state.gov.

Dated: April 29, 2004.
Marian R. Gordon,
Director, Telecommunication & Information Standardization, Department of State.

[FR Doc. 04-10563 Filed 5-6-04; 8:45 am]

BILLING CODE 4710-45-P